DEPARTMENT OF JUSTICE

Drug Enforcement Administration

Manufacturer of Controlled Substances; Notice of Application

Pursuant to Section 1301.33(a) of Title 21 of the Code of Federal Regulations (CFR), this is notice that on August 13, 2001, Mallinckrodt, Inc., Mallinckrodt & Second Streets, St. Louis, Missouri 63147, made application by letter to the Drug Enforcement Administration (DEA) for registration as a bulk manufacturer of the basic classes of controlled substances listed below:

Drug | Schedule
Codeine-N-oxide (9053) | I
Difenoxin (9168) | I
Morphine-N-oxide (9307) | I
Normorphine (9313) | I
Norlevorphanol (9634) | I
Benzoylecgonine (9180) | II

The firm plans to manufacture the controlled substances as an analytical reference standard to be utilized internally and for sale to other companies.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: DEA Federal Registered Representative (CCR), and must be filed no later than May 17, 2002.

Dated: December 28, 2001.
Laura M. Nagel,
Deputy Assistant Administrator, Office of Diversion Control, Drug Enforcement Administration.

[FR Doc. 02-6324 Filed 3-15-02; 8:45 am]

BILLING CODE 4410-09-M